DEPARTMENT OF AGRICULTURE

Animal and Plant Health Inspection Service

[Docket No. APHIS-2011-0131]

Notice of Request for Extension of Approval of an Information Collection; PPQ Form 816; Contract Pilot and Aircraft Acceptance

AGENCY: Animal and Plant Health Inspection Service, USDA.

ACTION: Extension of approval of an information collection; comment request.

SUMMARY: In accordance with the Paperwork Reduction Act of 1995, this notice announces the Animal and Plant Health Inspection Service's intention to request an extension of approval of an information collection for contract pilot and aircraft acceptance associated with Plant Protection and Quarantine domestic, emergency, and biological control programs.

DATES: We will consider all comments that we receive on or before April 10, 2012.

ADDRESSES: You may submit comments by either of the following methods:

• Federal eRulemaking Portal: Go to http://www.regulations.gov/#!documentDetail;D=APHIS-2011-0131-0001.

• Postal Mail/Commercial Delivery: Send your comment to Docket No. APHIS-2011-0131, Regulatory Analysis and Development, PPD, APHIS, Station 3A-03.8, 4700 River Road Unit 118, Riverdale, MD 20737-1238.

Supporting documents and any comments we receive on this docket may be viewed at http://www.regulations.gov/#!docketDetail;D=APHIS-2011-0131 or in our reading room, which is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: For information on contract pilot and aircraft acceptance, contact Mr. Timothy Roland, Director, Aircraft and Equipment Operations, PPQ, APHIS, 22675 N. Moorefield Road, Bldg. 6430, Edinburg, TX 78541-5033; (956) 205-7710. For copies of more detailed information on the information collection, contact Mrs. Celeste Sickles, APHIS' Information Collection Coordinator, at (301) 851-2908.

SUPPLEMENTARY INFORMATION: Title: PPQ Form 816; Contract Pilot and Aircraft Acceptance.

OMB Number: 0579-0298.

Type of Request: Extension of approval of an information collection.

Abstract: The Plant Protection Act (7 U.S.C. 7701 et seq) authorizes the Secretary of Agriculture, either independently or in cooperation with States, to carry out operations or measures to detect, eradicate, suppress, control, prevent, or retard the spread of plant pests and noxious weeds that are new to or not widely distributed within the United States. This authority has been delegated to the Administrator, Animal and Plant Health Inspection Service (APHIS).

As part of this mission, the Plant Protection and Quarantine (PPQ) program, APHIS, responds to introductions of plant pests to eradicate, suppress, or contain them through various programs in cooperation with State departments of agriculture and other government agencies. These programs may include release through aerial application of treatments to control plant pests.

APHIS contracts for these services, and prior to any aerial applications, requests certain information from the contractor and/or contract pilots to ensure that the work will be done according to contract specifications. Among other things, APHIS asks to see aircraft registration, the aircraft's airworthiness certificate, the pilot's license, the pilot's medical certification, the pilot's proof of flight review, the pilot's pesticide applicator's license, and the aircraft logbook. APHIS transfers information from these documents to PPQ Form 816, which is then signed by the APHIS official collecting the information and the contractor or contract pilot, indicating acceptance of the pilot and aircraft for the job.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.266666667 hours per response.

Respondents: Contractors and/or pilots of aircraft.

Estimated annual number of respondents: 15.

Estimated annual number of responses per respondent: 1.

Estimated annual number of responses: 15.

Estimated total annual burden on respondents: 4 hours. (Due to averaging, the total annual burden hours may not equal the product of the annual number of responses multiplied by the reporting burden per response.)

All responses to this notice will be summarized and included in the request for OMB approval. All comments will also become a matter of public record.

Done in Washington, DC, this 6th day of February 2012.
Kevin Shea,
Acting Administrator, Animal and Plant Health Inspection Service.

[FR Doc. 2012-3188 Filed 2-9-12; 8:45 am]

BILLING CODE 3410-34-P